EXPORT-IMPORT BANK

Sunshine Act Meeting

ACTION: Notice of an open meeting of the Board of Directors of the Export-Import Bank of the United States.

TIME AND PLACE: Wednesday, September 28, 2005 at 10:30 a.m. The meeting will held at Ex-Im Bank in Room 1143, 811 Vermont Avenue, NW., Washington, DC 20571.

OPEN AGENDA ITEM: PEFCO Secured Note Issues (Resolution).

PUBLIC PARTICIPATION: The portion of the meeting, which relates to the above item, will be open to public participation. Attendees that are not employees of the Executive Branch will be required to sign in prior to the meeting.

FURTHER INFORMATION: For further information, contact: Office of the Secretary, 811 Vermont Avenue, NW., Washington, DC 20571 (Telephone No. (202) 565-3957).

Howard A. Schweitzer,
General Counsel (Acting).

[FR Doc. 05-19076 Filed 9-20-05; 2:53 am]

BILLING CODE 6690-01-M